DEPARTMENT OF THE INTERIOR

National Park Service

[NPS-NCR 15008, PPNCNAMAN0, PPMPSPD1Y.YM00000]

Information Collection Request Sent to the Office of Management and Budget (OMB) for Approval; National Capital Region Application for Public Gathering

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on February 28, 2014. We may not conduct or sponsor and a person is not required to respond to a collection of information unless it displays a currently valid OMB Control Number. However, under OMB regulations, we may continue to conduct or sponsor this information collection while it is pending at OMB.

DATES: You must submit comments on or before March 27, 2014.

ADDRESSES: Send your comments and suggestions on this information collection to the Desk Officer for the Department of the Interior at OMB-OIRA at (202) 395-5806 (fax) or OIRA_Submission@omb.eop.gov (email). Please provide a copy of your comments to the Information Collection Clearance Officer, National Park Service, 1849 C Street, NW. (2601), Washington, DC 20240 (mail); or madonna_baucum@nps.gov (email). Please reference OMB Control Number 1024-0021 in the subject line of your comments.

FOR FURTHER INFORMATION CONTACT: To request additional information about this ICR, contact Robbin Owen, National Capital Region, National Park Service, 900 Ohio Drive SW., Washington, DC 20024 (mail) or at 202-245-4715 (telephone); or Marisa Richardson via email at ­Marisa_Richardson@nps.gov. You may review the ICR online at http://www.reginfo.gov. Follow the instructions to review Department of the Interior collections under review by OMB.

SUPPLEMENTARY INFORMATION:

I. Abstract

The Division of Permits Management of the National Mall and Memorial Parks issues permits for public gatherings (special events and demonstrations) held on NPS property within the National Capital Region. Regulations at 36 CFR 7.96(g) govern permits for public gatherings and implement statutory mandates to provide for resource protection and public enjoyment. These regulations reflect the special demands on many of the urban National Capital Region parks as sites for demonstrations and special events. A special event is any presentation, program, or display that is recreational, entertaining, or celebratory in nature; e.g., sports events, pageants, celebrations, historical reenactments, regattas, entertainments, exhibitions, parades, fairs, festivals and similar events. The term “demonstration” includes demonstrations, picketing, speechmaking, marching, holding vigils or religious services and all other like forms of conduct that involve the communication or expression of views or grievances.

Those who want to hold a special event or demonstration must complete an Application for a Permit to Conduct a Demonstration or Special Event in Park Areas and a Waiver of Numerical Limitations on Demonstrations for White House Sidewalk and/or Lafayette Park. The current application is available online at http://www.nps.gov/nama/planyourvisit/permits.htm. We collect information on:

• Sponsor (name, address, telephone and fax numbers, email address, Web site address).

• Type of permit requested.

• Logistics (dates/times, location, purpose, plans, and equipment for proposed activity).

• Potential civil disobedience and traffic control issues.

• Circumstances that may warrant park rangers being assigned to the event.

Depending on the size and complexity of the activity we may require that applicants submit supporting documents, including, but not limited to: site plan, sign plan, risk management plan, evidence of liability insurance, portable toilet contract, W-9 form, and electronic funds transfer form.

II. Data

OMB Control Number: 1024-0021.

Title: National Capital Region Application for Public Gathering, 36 CFR 7.96(g).

Service Form Number(s): None.

Type of Request: Revision of a currently approved collection.

Description of Respondents: Individuals, organizations, businesses, and State, local, or tribal governments.

Estimated Number of Respondents: 1,750.

Respondent's Obligation: Required to obtain or retain a benefit.

Frequency of Collection: On occasion.

Activity | Number of annual responses | Completion time per response (hours) | Total annual burden hours*
Application for Public Gathering | 1,750 | .5 | 875
Site Plan | 1,399 | 1 | 1,399
Sign Plan | 1.399 | .5 | 700
Risk Management Plan | 1,399 | 1.5 | 2,099
Administrative Documents | 1,399 | .75 | 1,050
Totals | 7,346 |  | 6,123
* rounded

Estimated Annual Nonhour Cost Burden: $139,200, associated with application fees for special events. There is no fee for applications for First Amendment activities.

III. Comments

On July 23, 2013, we published in the Federal Register (78 FR 44147) a notice of our intent to request that OMB renew approval for this information collection. In that notice, we solicited comments for 60 days, ending on September 23, 2013. There were no comments received in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 19, 2014.
Doris Lowery,
Acting, Information Collection Clearance Officer, National Park Service.

[FR Doc. 2014-03871 Filed 2-24-14; 8:45 am]

BILLING CODE 4310-EH-P